DEPARTMENT OF TRANSPORTATION

Federal Aviation Administration

14 CFR Part 39

[Docket No. 2001-NM-82-AD; Amendment 39-12204; AD 2001-08-27]

RIN 2120-AA64

Airworthiness Directives; Lockheed Model L-1011 Series Airplanes

AGENCY: Federal Aviation Administration, DOT.

ACTION: Final rule; request for comments.

SUMMARY: This amendment adopts a new airworthiness directive (AD) that is applicable to certain Lockheed Model L-1011 series airplanes. This action requires inspection of the windshield heat wire bundle for chafing or damage, and inspection of the harness clamps of the wire bundle for damage; and corrective actions, if necessary. For certain airplanes, this action also requires rerouting of the windshield heat wire bundle. This action is necessary to prevent chafing or damage of the windshield heat wire bundle, which could cause arcing and result in smoke and fire in the cockpit. This action is intended to address the identified unsafe condition.

DATES: Effective May 14, 2001.

The incorporation by reference of certain publications listed in the regulations is approved by the Director of the Federal Register as of May 14, 2001.

Comments for inclusion in the Rules Docket must be received on or before June 26, 2001.

ADDRESSES: Submit comments in triplicate to the Federal Aviation Administration (FAA), Transport Airplane Directorate, ANM-114, Attention: Rules Docket No. 2001-NM-82-AD, 1601 Linda Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-82-AD” in the subject line and need not be submitted in triplicate. Comments sent via the Internet as attached electronic files must be formatted in Microsoft Word 97 for Windows or ASCII text.

The service information referenced in this AD may be obtained from Lockheed Martin & Logistics Center, 120 Orion Street, Greenville, South Carolina 29605. This information may be examined at the FAA, Transport Airplane Directorate, 1601 Lind Avenue, SW., Renton, Washington; or at the FAA, Atlanta Aircraft Certification Office, One Crown Center, 1895 Phoenix Boulevard, suite 450, Atlanta, Georgia 30349; or at the Office of the Federal Register, 800 North Capitol Street, NW., suite 700, Washington, DC.

FOR FURTHER INFORMATION CONTACT: Tom Peters, Program Manager, Program Management Support Branch, ACE-116A, FAA, Atlanta Aircraft Certification Office, One Crown Center, 1895 Phoenix Boulevard, suite 450, Atlanta, Georgia 30349; telephone (770) 703-6063; fax (770) 703-6097.

SUPPLEMENTARY INFORMATION: The FAA has received a report indicating that an in-flight electrical arcing occurred to the windshield heat wire bundle located above the First Officer's side window in a Lockheed Model L-1011-385 series airplane. The wires were smoldering and flames were observed by the flightcrew. After the flightcrew donned smoke goggles and masks, two windshield heat circuit breakers opened, and the flightcrew opened the remaining circuit breakers, which removed power from the arcing wire bundle. Investigation of the cockpit revealed that the windshield and window heat wire harness C-38 was arcing in the proximity of a wire harness clamp installed just above the First Officer's chart light mounting bracket. Approximately 20 wires sustained various degrees of damage. The investigation also revealed that the clamp, which had been directly over the section of burned wire, was broken into two pieces and the rubber insulation appeared carbonized. The metal of the clamp also appeared to have been exposed to an electrical discharge. This condition, if not corrected, could result in chafing and damage to the C-38 wire bundle, which could cause arcing and result in smoke and fire in the cockpit.

Explanation of Relevant Service Information

The FAA has reviewed and approved Lockheed Service Bulletin 093-30-060, dated March 6, 2001, which describes procedures for a detailed visual inspection of the C-38 wire harness for any chafing or damage (e.g., shavings, moisture, deterioration, etc.). The service bulletin also describes procedures for repair and replacement of any damaged wiring. The FAA also reviewed and approved Lockheed Service Bulletin 093-30-057, dated April 27, 1984. That service bulletin describes procedures for rerouting the C-38 windshield heat wire harness for certain airplanes that have a First Officer's chart light installation that was accomplished during production or after delivery. Accomplishment of the actions specified in the service bulletins is intended to adequately address the identified unsafe condition.

Explanation of the Requirements of the Rule

Since an unsafe condition has been identified that is likely to exist or develop on other airplanes of the same type design, this AD is being issued to prevent damage to the C-38 wire bundle, which can cause arcing and result in smoke and fire in the cockpit. This AD requires accomplishment of the applicable actions specified in the service bulletins described previously.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-82-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-27 Lockheed: Amendment 39-12204. Docket 2001-NM-82-AD.

Applicability: Model L-1011 series airplanes, as listed in Lockheed Service Bulletin 093-30-060, dated March 6, 2001, and Lockheed Service Bulletin 093-30-057, dated April 27, 1984; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent damage to the windshield heat wire bundle, which could cause arcing and result in smoke and fire in the cockpit; accomplish the following:

Inspection of Wiring and Clamps, and Corrective Actions

(a) For airplanes listed in Lockheed Service Bulletin 093-30-060, dated March 6, 2001: Within 60 days after the effective date of this AD, perform the detailed visual inspections and repair or replacements specified in paragraph (a)(1) and (a)(2) of this AD, per Lockheed Service Bulletin 093-30-060, dated March 6, 2001.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Remove the C-38 wire harness clamps and perform a detailed visual inspection of the clamps and the conforming cushions for any sign of deterioration, damage, or slippage on the metal band of the clamp. Before further flight, replace any clamp that does not meet the specified criteria in the service bulletin with a new or serviceable clamp, per the service bulletin.

(2) Perform a detailed visual inspection of the C-38 wire harness for any damage from chafing or contamination (e.g., shavings, moisture, deterioration, etc.). Before further flight, repair, or replace any chafed or damaged wiring per the service bulletin.

Rerouting the C-38 Harness

(b) For airplanes listed in Lockheed Service Bulletin 093-30-057, dated April 27, 1984: Within 60 days after the effective date of this AD, reroute the C-38 harness and add one additional clamp to secure the harness away from the mounting brackets of the Flight Officer's chart light assembly, per the service bulletin.

Alternative Methods of Compliance

(c) An alternative method of compliance or adjustment of the compliance time that provides an acceptable level of safety may be used if approved by the Manager, Atlanta Aircraft Certification Office (ACO). Operators shall submit their requests through an appropriate FAA Principal Maintenance Inspector, who may add comments and then send it to the Manager, Atlanta ACO.

Note 3: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Lockheed Service Bulletin 093-30-060, dated March 6, 2001; and Lockheed Service Bulletin 093-30-057, dated April 27, 1984, as applicable. This incorporation by reference was approved by the Director of the Federal Register in accordance with 5 U.S.C. 552(a) and 1 CFR part 51. Copies may be obtained from Lockheed Martin & Logistics Center, 120 Orion Street, Greenville, South Carolina 29605. Copies may be inspected at the FAA, Transport Airplane Directorate, 1601 Lind Avenue, SW., Renton, Washington; Atlanta Aircraft Certification Office, One Crown Center, 1895 Phoenix Boulevard, suite 450, Atlanta, Georgia 30349; or at the Office of the Federal Register, 800 North Capitol Street, NW., suite 700, Washington, DC.

Effective Date

(f) This amendment becomes effective on May 14, 2001.

Issued in Renton, Washington, on April 19, 2001.
Donald L. Riggin,
Acting Manager, Transport Airplane Directorate, Aircraft Certification Service.

[FR Doc. 01-10339 Filed 4-26-01; 8:45 am]

BILLING CODE 4910-13-P